DEPARTMENT OF THE INTERIOR

National Park Service

[NPS-NERO-PAGR-20767; PX.PR166532I.00.1]

Request for Nominations for the Paterson Great Falls National Historical Park Advisory Commission

AGENCY: National Park Service, Interior.

ACTION: Request for nominations.

SUMMARY: The National Park Service (NPS), U.S. Department of the Interior, proposes to appoint new members to the Paterson Great Falls National Historical Park Advisory Commission (Commission). The NPS is requesting nominations for qualified persons to serve as members of the Commission.

ADDRESSES: Darren Boch, Superintendent and Designated Federal Officer, Paterson Great Falls National Historical Park, 72 McBride Avenue, Paterson, New Jersey 07501, (973) 523-2630 or email darren_boch@nps.gov.

FOR FURTHER INFORMATION CONTACT: Darren Boch, Superintendent and Designated Federal Officer, Paterson Great Falls National Historical Park, 72 McBride Avenue, Paterson, New Jersey 07501, (973) 523-2630 or email darren_boch@nps.gov.

SUPPLEMENTARY INFORMATION: The Paterson Great Falls National Historical Park Advisory Commission was established by 16 U.S.C. 410lll(e). The purpose of the Commission is to advise the Secretary of the Interior in the development and implementation of the management plan.

The Commission is composed of 9 members, to be appointed by the Secretary of the Interior, of whom: (i) 4 members shall be appointed after consideration of recommendations submitted by the Governor of the State of New Jersey; (ii) 4 members shall be appointed after consideration of recommendations submitted by the City Council of Paterson, New Jersey; (iii) 1 member shall be appointed after consideration of recommendations submitted by the Board of Chosen Freeholders of Passaic County, New Jersey, and (iv) 2 members shall have experience with national parks and historic preservation.

We are currently requesting nominations for the last of these categories.

Members may be appointed for a term of 3 years. A member may be reappointed for not more than 1 additional term.

Nominations should be typed and should include a resume providing an adequate description of the nominee's qualifications, including information that would enable the Department of the Interior to make an informed decision regarding meeting the membership requirements of the Commission and permit the Department of the Interior to contact a potential member.

Members of the Commission serve without compensation. However, while away from their homes or regular places of business in the performance of services for the Commission as approved by the Designated Federal Officer, members may be allowed travel expenses, including per diem in lieu of subsistence, in the same manner as persons employed intermittently in Government service are allowed such expenses under 5 U.S.C. 5703.

Individuals who are Federally registered lobbyists are ineligible to serve on all Federal Advisory Committee Act (FACA) and non-FACA boards, committees, or councils in an individual capacity. The term “individual capacity” refers to individuals who are appointed to exercise their own individual best judgment on behalf of the government, such as when they are designated Special Government Employees, rather than being appointed to represent a particular interest.

All nominations must be compiled and submitted in one complete package. Incomplete submissions (missing one or more of the items described above) will not be considered.

Dated: April 29, 2016.
Alma Ripps,
Chief, Office of Policy.

[FR Doc. 2016-11375 Filed 5-12-16; 8:45 am]

BILLING CODE 4310-EE-P